DEPARTMENT OF DEFENSE

Department of the Navy

[USN-2007-0019]

Privacy Act of 1974; System of Records

AGENCY: Department of the Navy, DoD.

ACTION: Notice to Amend System of Records.

SUMMARY: The Department of the Navy is amending a system of records notice in its existing inventory of record systems subject to the Privacy Act of 1974, (5 U.S.C. 552a), as amended.

DATES: This proposed action will be effective without further notice on April 6, 2007 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: February 28, 2007.
C.R. Choate,
Alternate OSD Federal Register Liaison Officer, Department of Defense.

N01070-5

System name:

Database of Retired Navy Flag Officers (July 19, 2000, 65 FR 44766).

Changes:

* * * * *

System location:

Delete “(N09BC)” and replace with “(DNS-4)”.

* * * * *

Authority for maintenance of the system:

Delete entry and replace with “10 U.S.C. 5013, Secretary of the Navy.”

* * * * *

System manager(s) and address:

Delete “(N09BC)” and replace with “(DNS-4)”.

Notification procedure:

At end of entry, add “or visit the Retired Flag Web Site.”

Record access procedures:

Delete entry and replace with “Individuals can access their personal data via the Retired Flag Web and make necessary changes to ensure information is accurate.”

* * * * *

N01070-5

System name:

Database of Retired Navy Flag Officers.

System location:

Office of the Chief of Naval Operations (DNS-4), 2000 Navy Pentagon, Washington, DC 20350-2000.

Categories of individuals covered by the system:

Retired Navy Flag Officers who voluntarily request to be part of the Retired Flag Officer Web Site.

Categories of records in the system:

The file contains personal and professional information, such as full name and nickname, rank, work and/or home address, home and/or office telephone/FAX/pager numbers, e-mail address, and spouse's name.

Authority for maintenance of the system:

10 U.S.C. 5013, Secretary of the Navy.

Purpose(s):

To maintain a directory of retired Navy flag officers for the purpose of providing briefings and outreach materials, and facilitating interaction between retired and active duty Navy flag officers via a limited access Web site.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ that appear at the beginning of the Navy's compilation of systems of records notices apply to this system.

Policies and practices for storing, retrieving, accessing, retaining, and disposing of records in the system:

Storage:

Computerized data base.

Retrievability:

Individual's name.

Safeguards:

Computerized data base is password protected and access is limited. The office is locked at the close of business. The office is located in the Pentagon which is guarded.

Retention and disposal:

Records are kept until the person is deceased or the person seeks removal of information, whichever is sooner.

System manager(s) and address:

Chief of Naval Operations (DNS-4), 2000 Navy Pentagon, Washington, DC 20350-2000.

Notification procedure:

Individuals seeking to determine whether information about themselves is contained in this system should address written inquiries to the Chief of Naval Operations (DNS-4), 2000 Navy Pentagon, Washington, DC 20350-2000 or visit the Retired Flag Web site.

Record access procedures:

Individuals seeking access to information about themselves contained in this system can access their personal data via the Retired Flag Web and make necessary changes to ensure information is accurate.

Contesting record procedures:

The Navy's rules for accessing records, and for contesting contents and appealing initial agency determinations are published in Secretary of the Navy Instruction 5211.5; 32 CFR part 701; or may be obtained from the system manager.

Record source categories:

Individual.

Exemptions claimed for the system:

None.

[FR Doc. E7-4029 Filed 3-6-07; 8:45 am]

BILLING CODE 5001-06-P